DEPARTMENT OF COMMERCE

International Trade Administration

[Application 10-00001]

Export Trade Certificate of Review

ACTION: Notice of Application for an Export Trade Certificate of Review from Alaska Longline Cod Commission (“ALCC”)

SUMMARY: The Export Trading Company Affairs (“ETCA”) unit, Office of Competition and Economic Analysis, International Trade Administration, Department of Commerce, has received an application for an Export Trade Certificate of Review (“Certificate”). This notice summarizes the conduct for which certification is sought and requests comments relevant to whether the Certificate should be issued.

FOR FURTHER INFORMATION CONTACT: Joseph E. Flynn, Director, Office of Competition and Economic Analysis, International Trade Administration, by telephone at (202) 482-5131 (this is not a toll free number) or E-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private, treble damage antitrust actions for the export conduct specified in the Certificate and carried out in compliance with its terms and conditions. Section 302(b)(1) of the Export Trading Company Act of 1982 and 15 CFR 325.6(a) require the Secretary to publish a notice in the Federal Register, identifying the applicant and summarizing its proposed export conduct.

Request for Public Comments

Interested parties may submit written comments relevant to the determination whether a Certificate should be issued. If the comments include any privileged or confidential business information, it must be clearly marked and a nonconfidential version of the comments (identified as such) should be included. Any comments not marked “privileged” or “confidential business information” will be deemed to be nonconfidential. An original and five (5) copies, plus two (2) copies of the nonconfidential version, should be submitted no later than 20 days after the date of this notice to: Export Trading Company Affairs, International Trade Administration, U.S. Department of Commerce, Room 7021X, Washington, DC 20230, or transmitted by E-mail at oetca@ita.doc.gov. Information submitted by any person is exempt from disclosure under the Freedom of Information Act (5 U.S.C. 552). However, nonconfidential versions of the comments will be made available to the applicant if necessary for determining whether or not to issue the Certificate. Comments should refer to this application as “Export Trade Certificate of Review, application number 10-00001.” A summary of the application follows.

Summary of the Application

Applicant: Alaska Longline Cod Commission (“ALCC”) c/o Mundt MacGregor L.L.P., 271 Wyatt Way NE., Suite 106, Bainbridge Island, Washington 98110, Contact: Duncan R. McIntosh, Attorney, Telephone: (206) 624-5950.

Application No.: 10-00001.

Date Deemed Submitted: February 2, 2010.

Members (in addition to applicant): ALCC members include the following entities: Alaskan Leader Fisheries, Inc., Lynden, Washington; Alaskan Leader Seafoods LLC, Lynden, Washington; Gulf Mist, Inc., Everett, Washington; Deep Sea Fisheries, Inc., Everett, Washington; Aleutian Spray Fisheries, Inc., Seattle, Washington; Pathfinder Fisheries LLC, Seattle, Washington; Liberator Fisheries, LLC, Seattle, Washington; Siberian Sea Fisheries, LLC, Seattle, Washington; Akulurak LLC, Seattle, Washington; Romanzoff Fishing Company, Seattle, Washington; Beauty Bay Washington, LLC, Seattle, Washington; Tatoosh Seafoods LLC, Seattle, Washington; Blue North Fisheries, Inc, Seattle, Washington; Blue North Trading Company, LLC, Seattle, Washington; Clipper Group, Ltd, Seattle, Washington; Clipper Seafoods, Ltd., Seattle, Washington; Bering Select Seafoods Company, Seattle, Washington; Glacier Bay Fisheries LLC, Seattle, Washington; Glacier Fish Company LLC, Seattle, Washington; and Shelfords' Boat, Ltd., Mill Creek, Washington.

ALCC seeks a Certificate of Review to engage in the Export Trade Activities and Methods of Operation described below in the following Export Trade and Export Markets:

Export Trade

Products

ALCC plans to export frozen at-sea, headed and gutted, Alaska cod (Gadus macrocephalus), also known as Pacific cod. Headed and gutted means the head and viscera are removed prior to freezing. Frozen-at-sea means that the export product is frozen on the catcher-processor vessel while at-sea immediately after being headed and gutted.

Export Markets

The export markets include all parts of the world except the United States (the fifty states of the United States, the District of Columbia, the Commonwealth of Puerto Rico, the Virgin Islands, American Samoa, Guam, the Commonwealth of the Northern Mariana Islands, and the Trust Territory of the Pacific Islands).

Export Trade Activities and Methods of Operation

ALCC and its members seek certification for the following activities and exchanges of information:

1. Each member will from time to time independently determine in its sole discretion (i) the quantity of export product that it makes available for sale in export markets, and (ii) whether any portion of such quantity will be sold independently by it, be sold in cooperation with some or all of the other members, or be made available to ALCC for sale in export markets. ALCC may not require any member to export any minimum quantity of export product.

2. ALCC and/or its members may enter into agreements to act in certain countries or markets as the members' exclusive or non-exclusive export intermediary(ies) for the quantity of export product dedicated by each member for sale by ALCC or any member(s) in that country or market. In any such agreement (i) ALCC or the member(s) acting as the exclusive export intermediary may agree not to represent any other supplier of export product with respect to one or more export market(s), and (ii) members may agree that they will export the quantity of export product dedicated for sale in such export markets only through ALCC or the member(s) acting as an exclusive export intermediary, and that they will not export the export product otherwise, either directly or through any other export intermediary.

3. ALCC and/or one or more of its members may engage in joint bidding or selling arrangements for export markets and allocate sales resulting from such arrangements among the members.

4. The members may refuse to deal with export intermediaries other than ALCC and its members.

5. ALCC may, for itself and on behalf of its members, by agreement with its members or its members' distributors or agents, or on the basis of its own determination:

a. Establish the prices at which export product will be sold in export markets;

b. Establish standard terms of sale of export product;

c. Establish standard quality grades for export product;

d. Establish target prices for sales of export product by its members in export markets, with each member remaining free to deviate from such target prices in its sole discretion;

e. Subject to the limitations set forth in paragraph 1, above, establish the quantity of export product to be sold in export markets;

f. Allocate among the members export markets or customers in the export markets;

g. Refuse to quote prices for, or to market or sell, export product in export markets; and

h. Engage in joint promotional activities aimed at developing existing or new export markets, such as advertising and trade shows.

6. ALCC may, for itself and on behalf of its members, contact non-member suppliers of export product to elicit information relating to price, volume delivery schedules, terms of sale, and other matters relating to such suppliers' sales or prospective sales in export markets.

7. Subject to the limitations set forth in paragraph 1, above, ALCC and its members may agree on the quantities of export product and the prices at which ALCC and its members may sell export product in and for export markets, and may also agree on territorial and customer allocations in export markets among the members.

8. ALCC and its members may enter into exclusive and non-exclusive agreements appointing third parties as export intermediaries for the sale of export product in export markets. Such agreements may contain the price, quantity, territorial and customer restrictions for export markets contained in paragraph 5, above.

9. ALCC and its members may solicit individual non-member suppliers of Product to sell such Product to ALCC or members for sale in export markets.

10. ALCC may compile for, collect from, and disseminate to its members, and the members may discuss among themselves, either in meetings conducted by ALCC or independently via telephone and other available and appropriate modes of communication, the information described in Item 14 below.

11. ALCC and its members may prescribe conditions for withdrawal of members from and admission of members to ALCC.

12. ALCC may, for itself or on behalf of its members, establish and implement a quality assurance program for export product, including without limitation establishing, staffing, and operating a laboratory to conduct quality testing, promulgating quality standards or grades, inspecting export product samples and publishing guidelines for and reports of the results of laboratory testing.

13. ALCC may conduct meetings of its members to engage in the activities described in paragraphs 1 through 12, above.

14. ALCC and its members seek to exchange and discuss the following types of export-related information:

a. Sales and marketing efforts, and activities and opportunities for sales of export product, including but not limited to selling strategies and pricing, projected demand for export product, standard or customary terms of sale in export markets, prices and availability of export product from competitors, and specifications for export product by customers in export markets;

b. Price, quality, quantity, source, and delivery dates of export product available from the members for export including but not limited to export inventory levels and geographic availability;

c. Terms and conditions of contracts for sales to be considered and/or bid on by ALCC and its members;

d. Joint bidding or selling arrangements and allocation of sales resulting from such arrangements among the members, including each member's share of the previous calendar year's total foreign sales;

e. Expenses specific to exporting to and within export markets, including without limitation transportation, trans- or intermodal shipments, cold storage, insurance, inland freight to port, port storage, commissions, export sales, documentation, financing, customs duties, and taxes;

f. U.S. and foreign legislation regulations and policies affecting export sales; and

g. ALCC's and/or its members' export operations, including without limitation, sales and distribution networks established by ALCC or its members in export markets, and prior export sales by members (including export price information).

Dated: February 17, 2010.
Joseph E. Flynn,
Director, Office of Competition and Economic Analysis.

[FR Doc. 2010-3422 Filed 2-22-10; 8:45 am]

BILLING CODE 3510-DR-P